DEPARTMENT OF ENERGY

Federal Energy Regulatory Commission

[Docket Nos. CP00-412-000, CP00-413-000 and CP00-414-000]

Cross Bay Pipeline Company, L.L.C. Transcontinental Gas Pipe Line Corporation; Cross Bay Pipeline Company, L.L.C.; Notice of Applications

July 31, 2000.

Take notice that on July 21, 2000, Cross Bay Pipeline Company, L.L.C. (Cross Bay) and Transcontinental Gas Pipe Line Corporation (Transco) filed jointly in Docket No. CP00-412-000 an application pursuant to Section 7 of the Natural Gas Act (NGA) and the Commission's Rules and Regulations. Also take notice that on July 21, 2000, Cross Bay filed in Docket Nos. CP00-413-000 and CP00-414-000 applications pursuant to Section 7 of the NGA and the Commission's Rules and Regulations. By these applications, Cross Bay seeks certificates of public convenience and necessity authorizing it to construct, own, operate, and maintain natural gas facilities in order to become a new interstate natural gas pipeline company in New Jersey and New York. Cross Bay intends to provide up to 125,000 dth per day of new firm transportation between New Jersey and New York for any potential future customers. Transco seeks authority abandon, by transfer to Cross Bay, certain of its facilities in New Jersey and New York. Cross Bay's and Transco's proposals are more fully set forth in the applications which are on file with the Commission and open to public inspection. The filing(s) may also be viewed at http://www.ferc.fed.us/online/rims.htm (call 202-208-2222 for assistance). Any initial questions regarding these applications should be directed to Gisela B. Cherches, attorney for Cross Bay Operating Company, at P.O. Box 1396, Houston, Texas, 77251-1396, call (713) 215-2397.

Cross Bay seeks a certificate of public convenience and necessity authorizing the acquisition of certain facilities by Cross Bay from Transco and the construction and operation by Cross Bay of other natural gas pipeline facilities in New Jersey and New York. Cross Bay also seeks approval of its initial recourse rates for firm and interruptible open access transportation services, approval of its lease of pipeline capacity from Transco, and approval of its leasing of its capacity to Transco. Cross Bay further requests that the Commission grant it a Blanket Certificate of public convenience and necessity pursuant to Part 284, Subpart G of the Commission's Regulations authorizing the transportation of gas for others, and a Blanket Certificate of public convenience and necessity under Part 157, Subpart F of the Commission's Regulations authorizing certain limited future facility construction and operation. Transco seeks approval of the related abandonment of certain of its natural gas pipeline facilities located in New Jersey and New York so that they can be contributed to Cross Bay as one of Transco's contributions.

Cross Bay respectfully requests that the Commission issue a preliminary determination on the non-environmental aspects of this proposal by December 15, 2000, and a final order granting the authorizations requested by June 15, 2001. Cross Bay says that this approval schedule is necessary to allow the project to be completed by December 1, 2002, the proposed in-service date for the project.

Cross Bay is a limited liability company formed under the laws of the State of Delaware. The members of Cross Bay are Transco Cross Bay Company (Transco Cross Bay), a Delaware corporation and wholly owned subsidiary of Transco, Texas Eastern Cross Bay Company (Texas Eastern Cross Bay), a Delaware corporation and wholly owned subsidiary of Texas Eastern Transmission Corporation (Texas Eastern), and KeySpan Cross Bay, L.L.C. (KeySpan Cross Bay), a Delaware limited liability company and wholly owned subsidiary of KeySpan Corporation. Transco Cross Bay and Texas Eastern Cross Bay each have a 37.50% ownership interest in Cross Bay and KeySpan Cross Bay has a 25% ownership interest in Cross Bay. Cross Bay Operating Company, a wholly owned subsidiary of Transco, will act as operator of Cross Bay, overseeing the construction of Cross Bay's facilities, operating the facilities and handling the day-to-day business affairs of Cross Bay.

Cross Bay's pipeline system will have a total firm transportation capacity of 614,628 Dth. per day. Of this total capacity, Cross Bay will have 125,000 Dth. per day of incremental firm capacity available to new shippers. Cross Bay will lease up to 489,628 Dth. per day of capacity on a firm basis back to Transco. Transco says that the lease will enable Transco to continue to provide seamless transportation service to existing customers who are currently served through the facilities Transco will transfer to Cross Bay. The cost of this lease is $61,483 per month, plus an additional amount for its share of operation and maintenance expenses and property taxes.

In addition, Transco will lease to Cross Bay up to 125,000 Dth. per day of pipeline capacity from Transco's meter station at Linden, New Jersey, which interconnects with Texas Eastern's facilities, to the interconnection of Transco's system with Cross Bay's system at the Cross Bay compressor station to be constructed in Middlesex County, New Jersey. The cost of this lease is $31,878 per month.

Cross Bay says that there is no economic or operational impact on Transco's existing customers due to the transfer of facilities or the terms of the lease arrangements. Cross Bay says it will have no adverse impacts on existing pipelines or their captive customers, as it will serve incremental load. Cross Bay says its project will enhance reliability of service to existing customers of Transco by adding compression and will enhance service to existing customers of Texas Eastern by providing additional access to New York markets through Cross Bay. The Cross Bay project involves less than two miles of replacement pipeline in existing right-of-way and construction of a compressor station on a site for which Cross Bay has secured the right to purchase the land.

Cross Bay's pipeline system will consist of the following existing facilities and modifications to such facilities:

1. About 3.3 miles of existing 42-inch pipeline in Middlesex County, New Jersey, and about 33.7 miles of existing 26-inch pipeline crossing Middlesex and Monmouth Counties, New Jersey and Queens and Nassau Counties, New York, including the Morgan Meter & Regulator Station and the Long Beach Meter & Regulator Station, which are both located along that pipeline segment. [Transco presently owns and operates these facilities, and refers to them as the Lower New York Bay Extension. Transco will cause these facilities to be transferred to Cross Bay at net book value.]

2. Modifications to the two existing meter stations, Morgan and Long Beach.

3. Uprating, by hydrostatic testing, of the 33.7 mile 26-inch pipeline.

4. Replacement of 5 sections of the 42-inch pipeline and uprating by hydrostatic testing.

5. Construction of one new compressor station consisting of two 8,000 horsepower electric driven reciprocating compressors and metering facilities near Old Bridge in Middlesex County, New Jersey (Cross Bay Compressor Station) at a location on which Cross Bay has secured the rights to purchase the property.

6. Modifications to other appurtenant facilities.

Cross Bay estimates that the total cost of its project will be approximately $59.5 million. Cross Bay is proposing a capital structure consisting of 75% non-recourse debt and 25% partner-contributed equity. Cross Bay has assumed that the debt will bear interest at the rate of 8% for a term of twenty (20) years. However, Cross Bay plans to seek the most favorable financing terms available in the marketplace at the time the project is financed. Cross Bay proposes that the equity component of its capital structure earn a return of 14%.

The pro forma FERC Gas Tariff pursuant to which Cross Bay will provide transportation service is included in its application in Exhibit P. Cross Bay says that the terms and conditions of the tariff are structured to conform to the requirements of the Commission's Order Nos. 636 and 637. The tariff includes proposed Rate Schedule FT, under which Cross Bay will render firm transportation service to shippers, and proposed rate Schedule IT, under which Cross Bay will render interruptible transportation service. The tariff also provides for the ability to negotiate rates. Cross Bay says that any shippers subscribing to Cross Bay's firm transportation service will be given the option of paying a negotiated rate or a cost-based recourse rate for service under Rate Schedule FT. Cross Bay proposes that the initial recourse rate for firm transportation service under Rate Schedule FT will be a monthly reservation rate of $7.4161 per Dth./month, which is based on the straight fixed-variable rate design methodology. The initial rate for interruptible transportation service under Rate Schedule IT will be a commodity rate of $0.2438 per Dth./day.

Cross Bay requests that the Commission issue it a Blanket Certificate of public convenience and necessity pursuant to Section 284.221 of the Commission's Regulations authorizing Cross Bay to provide transportation service to the customers requesting and qualifying for transportation service under Cross Bay's FERC Gas Tariff. Cross Bay states that it will comply with the conditions set forth in Section 284.221(c).

Cross Bay also request that the Commission grant to it a Blanket Certificate of public convenience and necessity pursuant to Section 157.204 of the Commission's Regulations authorizing limited future facility construction, operation and abandonment as set forth in the Blanket certificate Regulations in part 157, Subpart F. Cross Bay states that it will comply with the terms, conditions and procedures specified in Part 157, Subpart F.

Any person desiring to participate in the hearing process or to make any protest with reference to said application should on or before August 21, 2000, file with the Federal Energy Regulatory Commission, Washington, D.C. 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

A person obtaining intervenor status will be laced on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of the environmental documents and will be able to participate in meetings associated with the Commission's environmental review process. Commenters will not be required to serve copies of filed documents on all other parties. However, commenters will not receive copies of all documents filed by the other parties, or issued by the Commission and will not have the right to seek rehearing or appeal the Commission's final order to a federal court. The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for Cross Bay or Transco to appear or be represented at the hearing.

David P. Boergers,
Secretary.

[FR Doc. 00-19745 Filed 8-3-00; 8:45 am]

BILLING CODE 6717-01-M